NUCLEAR REGULATORY COMMISSION

[Docket No. 40-8681-MLA-9; ASLBP No. 01-789-01-MLA]

International Uranium (USA) Corporation; Designation of Presiding Officer

Pursuant to delegation by the Commission, see 37 FR 28710 (Dec. 29, 1972), and the Commission's regulations, see 10 CFR 2.1201, 2.1207, notice is hereby given that (1) a single member of the Atomic Safety and Licensing Board Panel is designated as Presiding Officer to rule on petitions for leave to intervene and/or requests for hearing; and (2) upon making the requisite findings in accordance with 10 CFR 2.1205(h), the Presiding Officer will conduct an adjudicatory hearing in the following proceeding:

International Uranium (USA) Corporation (Source Material License Amendment)

The hearing will be conducted pursuant to 10 CFR part 2, Subpart L, of the Commission's Regulations, “Informal Hearing Procedures for Adjudications in Materials and Operator Licensing Proceedings.” This proceeding concerns a February 7, 2001 request for hearing submitted by the Glen Canyon Group of the Sierra Club. The request was filed in response to a request from International Uranium (USA) Corporation (IUSA) to amend its source material license to receive and process alternate feed materials at its Blanding, Utah White Mesa Uranium Mill from the Molycorp site located in Mountain Pass, California. The notice of receipt of the amendment and opportunity for a hearing was published in the Federal Register on January 9, 2001 (66 FR 1702).

The Presiding Officer in this proceeding is Administrative Judge Alan S. Rosenthal. Pursuant to the provisions of 10 CFR 2.722, 2.1209, Administrative Judge Richard F. Cole has been appointed to assist the Presiding Officer in taking evidence and in preparing a suitable record for review.

All correspondence, documents, and other materials shall be filed with Judges Rosenthal and Cole in accordance with 10 CFR 2.1203. Their addresses are:

Administrative Judge Alan S. Rosenthal, Presiding Officer, Atomic Safety and Licensing Board Panel, U.S. Nuclear Regulatory Commission, Washington, DC 20555-0001.

Dr. Richard F. Cole, Special Assistant, Atomic Safety and Licensing Board Panel, U.S. Nuclear Regulatory Commission, Washington, DC 20555-0001.

Issued at Rockville, Maryland, this 27th day of February 2001.
G. Paul Bollwerk III,
Chief Administrative Judge, Atomic Safety and Licensing Board Panel.

[FR Doc. 01-5214 Filed 3-2-01; 8:45 am]

BILLING CODE 7590-01-P